DEPARTMENT OF THE INTERIOR

Bureau of Land Management

[LLAZC01000.L51010000.FX0000.LVRWA09A2310; AZA 32315]

Notice of Availability of the Draft Environmental Impact Statement for the Proposed Mohave County Wind Farm Project, AZ

AGENCY: Bureau of Land Management, Interior.

ACTION: Notice of availability.

SUMMARY: In accordance with the National Environmental Policy Act of 1969 as amended (NEPA), the Bureau of Land Management (BLM) has prepared a Draft Environmental Impact Statement (EIS) for the proposed Mohave County Wind Farm Project and by this notice is announcing the opening of the comment period.

DATES: To ensure comments will be considered, the BLM must receive written comments on the proposed Mohave County Wind Farm Project Draft EIS within 45 days following the date the Environmental Protection Agency publishes its Notice of Availability in the Federal Register. The BLM will announce dates and locations of future meetings or hearings and any other public involvement activities at least 15 days in advance through public notices, media releases, mailings, and the BLM Web site at http://www.blm.gov/az/st/en/prog/energy/wind/mohave.html.

ADDRESSES: You may submit comments related to the following Mohave County Wind Farm Project by any of the following methods:

• Web site: http://www.blm.gov/az/st/en/prog/energy/wind/mohave.html.

• Email: KFO_WindEnergy@blm.gov.

• Fax: 602-417-9490.

• Mail: Bureau of Land Management, Renewable Energy Coordination Office, Arizona State Office, One North Central Avenue, Suite 800, Phoenix, Arizona 85004-4427.

Copies of the Mohave County Wind Farm Project Draft EIS are available in the Arizona State Office at the above address; in the Kingman Field Office located at 2755 Mission Boulevard, Kingman, Arizona 86401; and on the above Web site.

FOR FURTHER INFORMATION CONTACT: Or to have your name added to our mailing list, contact Jerry Crockford, BLM-contracted project manager, telephone 505-360-0473; email KFO_WindEnergy@blm.gov; or contact Jackie Neckels, Environmental Coordination, telephone 602-417-9262; address Bureau of Land Management, Arizona State Office, Renewable Energy Coordination Office, One North Central Avenue, Suite 800, Phoenix, Arizona 85004-4427. Persons who use a telecommunications device for the deaf (TDD) may call the Federal Information Relay Service (FIRS) at 1-800-877-8339 to contact the above individuals during normal business hours. The FIRS is available 24 hours a day, 7 days a week, to leave a message or question for the above individuals. You will receive a reply during normal business hours.

SUPPLEMENTARY INFORMATION: The lead Federal agency for the Mohave County Wind Farm Project is the BLM Kingman Field Office. Cooperating agencies are the Western Area Power Administration (Western); Bureau of Reclamation—Lower Colorado Region (Reclamation); National Park Service—Lake Mead National Recreation Area; Mohave County, Arizona; Arizona Game and Fish Department; and the Hualapai Tribe Department of Cultural Resources.

The applicant, BP Wind Energy North America (BPWE), applied for a right-of-way to construct, operate, maintain, and decommission a 500-megawatt (MW) wind farm, including turbine generators and associated infrastructure, on approximately 38,099 acres of land managed by the BLM and approximately 8,960 acres of land managed by Reclamation, totaling approximately 47,059 acres of Federal land. The project area is located in the White Hills area approximately 40 miles northwest of Kingman, Arizona, approximately 9 miles south of the Colorado River, and approximately 20 miles southeast of Hoover Dam. A map of the proposed project area and a legal description are available on the BLM Web site at http://www.blm.gov/az/st/en/prog/energy/wind/mohave.html. The project is anticipated to generate up to 500 MW of electricity. It is proposed to consist of up to 283 turbines, access roads, and ancillary facilities. The turbine generators would be selected from those with a power output ranging from 1.5 to 3.0 MW each. To the extent possible, existing roads would be used to reduce potential impacts associated with the construction of new roads. Roads would be improved as needed, and the road network would be supplemented with internal access/service roads to each wind turbine.

Proposed ancillary facilities include pad-mounted transformers, an underground 34.5-kilovolt (kV) electrical collection system between the turbines, distribution connector lines (either underground or above-ground) tying the turbine strings to either a 345-kV or a 500-kV electrical substation. This would provide interconnection with the regional power grid through the substation to a new switchyard at one of two major electric transmission lines transecting the project area. The lines, which are administered by Western, are the 345-kV Liberty-Mead line and the 500-kV Mead-Phoenix line.

Scoping was initiated with the publication of a notice of intent in the Federal Register on November 20, 2009, and conducted from November 20 through January 8, 2010. Three public meetings and an agency meeting were held in Kingman, Dolan Springs, and White Hills, Arizona. A supplemental scoping period was initiated with publication of a second notice of intent on July 26, 2010, and concluded on September 9, 2010. Four public scoping meetings were held during the supplemental scoping period; one at each of the three original scoping meeting communities and an additional meeting in Peach Springs, Arizona, at the Hualapai Tribe Cultural Center. The BLM considered all input received from the start of the first scoping period (November 20, 2009) to the end of the second scoping period (September 9, 2010).

Public and cooperating agency concerns/comments identified the following issues. The percentage of comments for each issue is included in parentheses: Biological resources (23 percent), project description (17 percent), socioeconomics (9 percent), land use, recreation, and transportation (8 percent), NEPA process (7 percent), visual resources (6 percent), project alternatives (5 percent), cumulative effects (4 percent), noise (4 percent), project need (3 percent), air quality (3 percent), geology and minerals (3 percent), water resources (3 percent), cultural resources (2 percent), and hazardous materials and safety (1 percent).

The Draft EIS considers the impacts of the proposed action, two action alternatives, and a no action alternative. An updated wilderness characteristics inventory determined that none of the public lands in the project area have wilderness characteristics. The Alternative A (proposed action) wind-farm site would encompass approximately 38,099 acres of land managed by the BLM and 8,960 acres of land managed by Reclamation. As with all action alternatives, project features within the wind-farm site would include turbines aligned within corridors, access roads, electrical collection system, an operations and maintenance building, two temporary laydown/staging areas (with temporary batch plant operations), two substations, and a switchyard. The number of turbines constructed would vary depending on the turbine type that is installed, but Alternative A proposes more turbines than the other alternatives. Alternative A could support development of a maximum of 283 turbines.

The Alternative B wind-farm site would encompass approximately 30,872 acres of land managed by the BLM and 3,848 acres of land managed by Reclamation. Alternative B reduces the wind-farm site footprint and has fewer turbines than Alternative A, with the intent of reducing visual and noise impacts on the Lake Mead National Recreation Area primarily and secondarily on private property. The number of turbines constructed would vary depending on the turbine type that is installed, but Alternative B could support development of a maximum of 208 turbines. Alternative B provides a greater distance between the Lake Mead National Recreation Area and the proposed wind-farm project boundary. The Alternative C wind-farm site would encompass approximately 30,178 acres of land managed by the BLM and 5,124 acres of land managed by Reclamation. Alternative C also reduces the wind-farm site footprint and has fewer turbines than Alternative A, with the intent of reducing visual and noise impacts primarily on private property and secondarily on the Lake Mead National Recreation Area. The number of turbines constructed would vary depending on the turbine type that is installed, but Alternative C could support development of a maximum of 208 turbines. Alternative C provides a greater distance from private land and the proposed wind-farm project boundary.

Alternative D is the no action alternative, which provides a baseline against which action alternatives can be compared. Alternative D includes an analysis of effects from not developing the project. Alternative D assumes that no actions associated with the project would occur, and no rights-of-way or interconnections would be granted. The BLM-administered lands would continue to be managed in accordance with the Kingman Field Office Resource Management Plan, and the Reclamation-administered lands would continue to be managed by Reclamation. Capacity on Western's transmission lines would remain available for other projects.

The BLM's purpose and need for the Mohave County Wind Farm Project is to respond to BPWE's application under Title V of the Federal Land Policy and Management Act of 1976 (FLPMA) (43 U.S.C. 1761) for a right-of-way (ROW) grant to construct, operate, and decommission a wind-farm site in compliance with FLPMA, BLM ROW regulations and other applicable Federal laws. The BLM will decide whether to approve, approve with modification or deny a ROW grant to BPWE for the proposed wind project.

Reclamation's responsibility under the Act of Congress of June 17, 1902 (32 Stat. 388), Section 10 of the Reclamation Project Act, 1939 (53 Stat. 1187), and 43 CFR part 429 is to respond to a request for a ROW on Reclamation-administered Federal land. Reclamation will decide whether to grant the ROW for the construction, operation, and decommissioning of the wind-farm site on Reclamation-administered lands.

Western's Federal action would be to execute an interconnection agreement and design, construct, own, operate, and maintain the project switchyard and physical interconnection to the existing transmission line under all alternatives.

The BLM will continue to use and coordinate the NEPA public participation requirements to assist the agency in satisfying the public involvement requirements under Section 106 of the National Historic Preservation Act (16 U.S.C. 470f) pursuant to 36 CFR 800.2(d)(3).

The BLM will continue to consult with Indian tribes on a government-to-government basis in accordance with Executive Order 13175 and other policies. Tribal concerns, including impacts on Indian trust assets and potential impacts to cultural resources, will be given due consideration. Federal, State, and local agencies, along with tribes and other stakeholders that may be interested in or affected by the decision on this proposed project, are encouraged to review and comment on the Draft EIS.

The BLM will respond to each substantive comment by making appropriate revisions to the document or by explaining why a comment did not warrant a change.

Before including your phone number, email address, or other personal identifying information in your comment, you should be aware that your entire comment—including your personal identifying information—may be made publicly available at any time. While you can ask us in your comment to withhold your personal identifying information from public review, we cannot guarantee that we will be able to do so.

Authority: 40 CFR 1506.6 and 1506.10.

Joan B. Losacco,
Acting Associate State Director.

[FR Doc. 2012-10749 Filed 5-1-12; 11:15 am]

BILLING CODE 4310-32-P